DEPARTMENT OF THE TREASURY

Financial Crimes Enforcement Network

Agency Information Collection Activities; Proposed Collection; Comment Request; Customer Survey

AGENCY: Financial Crimes Enforcement Network (FinCEN).

ACTION: Notice and request for comments.

SUMMARY: As part of its continuing effort to reduce paperwork and respondent burden, FinCEN invites comment on an information collection requirement concerning a survey of customer satisfaction with regulatory guidance. This request for comment is being made pursuant to the Paperwork Reduction Act of 1995, Public Law 104-13 (44 U.S.C. 3506(c)(2)(A)).

DATES: Written comments should be received on or before January 31, 2003 to be assured of consideration.

ADDRESSES: Direct all written comments to: Office of Management, Financial Crimes Enforcement Network, Department of the Treasury, PO Box 39, Vienna, VA 22183, Attention: PRA Comments-Customer Satisfaction Survey. Comments also may be submitted by electronic mail to the following Internet address: “regcomments@fincen.treas.gov” with the caption in the body of the text, “Attention: PRA Comments—Customer Satisfaction Survey.”

FOR FURTHER INFORMATION CONTACT: Requests for additional information or for a copy of the information collection should be directed to: Office of Management, FinCEN, 703-905-3947, not a toll-free call.

SUPPLEMENTARY INFORMATION:

Title: Customer Satisfaction Survey.

OMB Number: None.

Form Number: None

Abstract: The Government Performance and Results Act requires agencies to submit an annual performance plan and performance report to Congress. In connection with this requirement, FinCEN will conduct a survey of customer satisfaction with regulatory guidance provided under the Bank Secrecy Act.

Current Action: New collection.

Affected Public: Individuals, business or other for-profit institutions, not-for-profit institutions.

Estimated Number of Respondents: 200.

Estimated Time Per Respondent: 10 minutes.

Estimated Total Annual Burden Hours: 33 hours.

An agency may not conduct or sponsor, and a person is not required to respond to, a collection of information unless the collection of information displays a valid OMB control number.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: November 21, 2002.
James F. Sloan,
Director, Financial Crimes Enforcement Network.

[FR Doc. 02-30352 Filed 11-29-02; 8:45 am]

BILLING CODE 4810-02-P